DEPARTMENT OF JUSTICE

Antitrust Division

Notice Pursuant to the National Cooperative Research and Production Act of 1993—ASTM International-Intellectual Property Policy

Notice is hereby given that, on September 17, 2004, pursuant to section 6(a) of the National Cooperative Research and Production Act of 1993, 15 U.S.C. 4301 et seq. (“the Act”), ASTM International—Intellectual Property Policy (“ASTM-IPP”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: ASTM International—Intellectual Property Policy, west Conshohocken, PA. The nature and scope of ASTM-IPP's standards development activities are: ASTM International develops standrds in over 130 areas covering subjects including consumer products, medical services and devices, electronics, metals, paints, plastics, textiles, petroleum, construction, energy and the environment. ASTM International, as part of its standards development activities, has promulgated and adopted an Intellectual Property Policy as described in the Act (publicly available at http://www.astm.org/Itpolicy.pdf.

For additional information, please contact: Thomas B. O'Brien, Jr., General Counsel, ASTM International, 100 Barr Harbor Drive, West Conshohocken, PA, telephone no. (610) 832-9597, e-mail address tobrien@astm.org.

Dorothy B. Fountain,
Deputy Director of Operations, Antitrust Division.

[FR Doc. 04-23535 Filed 10-20-04; 8:45 am]

BILLING CODE 4410-11-M